FEDERAL MARITIME COMMISSION

[Docket No. 23-02]

Bed Bath & Beyond Inc. Complainant v. Orient Overseas Container Line Limited and OOCL (EUROPE) LIMITED, Respondents; Notice of Filing of Complaint and Assignment

Notice is given that a complaint has been filed with the Federal Maritime Commission (Commission) by Bed Bath & Beyond Inc., hereinafter “Complainant,” against Orient Overseas Container Line Limited and OOCL (Europe) Limited (hereinafter “Respondents.”) Complainant states that it is a corporation existing under the laws of New York with a principal place of business in New Jersey. Complainant identifies Orient Overseas Container Line Limited as an ocean common carrier existing under the laws of Hong Kong with a principal place of business in Hong Kong, as well as a “controlled carrier” of the People's Republic of China. Complainant identifies OOCL (Europe) Limited as an ocean common carrier existing under the laws of United Kingdom with a principal place of business in the United Kingdom, as well as a “controlled carrier” of the People's Republic of China. Complainant further alleges that both companies act in the United States by and through their agent, OOCL (USA) Inc. (“OOCL (USA)”), a company existing under the laws of the State of New York with its principal place of business located in Utah.

Complainant alleges that Respondent violated 46 U.S.C. 41102(c), 41104(a)(2), and 41104(a)(10), as well as 46 CFR 545.5, regarding its practices and the billing and payment of costs and charges on the shipments of cargo, including demurrage and detention, as well as systematically failing to meet its service commitments to Complainant under Service Contracts, and by coercing Complainant to pay Peak Season Surcharges (PSS) and enter into premium rate contracts. An answer to the complaint is due to be filed with the Commission within twenty-five (25) days after the date of service. The full text of the complaint can be found in the Commission's Electronic Reading Room at https://www2.fmc.gov/readingroom/proceeding/23-02/. This proceeding has been assigned to Office of Administrative Law Judges. The initial decision of the presiding officer in this proceeding shall be issued by April 29, 2024, and the final decision of the Commission shall be issued by November 12, 2024.

Served: April 27, 2023.
William Cody,
Secretary.

[FR Doc. 2023-09374 Filed 5-2-23; 8:45 am]

BILLING CODE P